DEPARTMENT OF COMMERCE

International Trade Administration

[C-428-833]

Notice of Amended Final Affirmative Countervailing Duty Determination: Carbon and Certain Alloy Steel Wire Rod from Germany

AGENCY: Import Administration, International Trade Administration, Department of Commerce.

ACTION: Notice of amended final affirmative countervailing duty determination.

SUMMARY: On August 30, 2002, the Department of Commerce published in the Federal Register the Final Affirmative Countervailing Duty Determination and Final Negative Critical Circumstances Determination: Carbon and Certain Alloy Steel Wire Rod from Germany, 67 FR 55808 (August 30, 2002). On September 4, 2002 we received a ministerial error allegation from Saarstahl AG. On September 9, 2002, the petitioners filed a response to the allegation. Based on our review of the comments received from the parties, we are not revising the estimated countervailing duty rate for Saarstahl AG.

Subsequent to issuing the final determination, the Department noted an error in the calculation of the “all others” rate. We have revised the estimated countervailing duty “all others” rate accordingly. The revision to the “all others” rate is listed below in the “Amended Final Determination” section.

EFFECTIVE DATE: October 7, 2002.

FOR FURTHER INFORMATION CONTACT: Melanie Brown, Import Administration, International Trade Administration, U.S. Department of Commerce, Washington, DC 20230; telephone: (202) 482-4987.

SUPPLEMENTARY INFORMATION:

Applicable Statute and Regulations

Unless otherwise indicated, all citations to the statute are references to the provisions of the Tariff Act of 1930, as amended by the Uruguay Round Agreements Act effective January 1, 1995 (“the Act”). In addition, unless otherwise indicated, all citations to the Department of Commerce's (“the Department”) regulations are to 19 CFR part 351 (April 2001).

Scope of Investigation

The merchandise covered by this investigation is certain hot-rolled products of carbon steel and alloy steel, in coils, of approximately round cross section, 5.00 mm or more, but less than 19.00 mm, in solid cross-sectional diameter (“subject merchandise” or “wire rod”).

Specifically excluded are steel products possessing the above-noted physical characteristics and meeting the Harmonized Tariff Schedule of the United States (“HTSUS”) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. Grade 1080 tire cord quality rod is defined as: (i) Grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton; and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

Grade 1080 tire bead quality rod is defined as: (i) Grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under investigation are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Period of Investigation

The period for which we are measuring subsidies, or period of investigation, is calendar year 2000.

Amended Final Determination

In accordance with section 705(d) of the Act, on August 30, 2002, the Department published in the Federal Register the Final Affirmative Countervailing Duty Determination and Final Negative Critical Circumstances Determination: Carbon and Certain Alloy Steel Wire Rod from Germany, 67 FR 55808. On September 4, 2002, we received a ministerial error allegation, timely filed pursuant to 19 CFR 351.224(c)(2), from Saarstahl AG, (“Saarstahl”). Saarstahl alleged that the Department made a ministerial error in the final determination in failing to use an 11-year average useful life (“AUL”) in Saarstahl's calculations. On September 9, 2002, the petitioners (Co-Steel Raritan, Inc., GS Industries, Keystone Consolidated Industries, Inc., and North Star Steel Texas, Inc.) submitted a rebuttal to Saarstahl's allegation. The petitioners argued that Saarstahl's allegation does not constitute a ministerial error as defined by the Department's regulations and should be rejected by the Department.

After analyzing the submissions, we have determined that Saarstahl's allegation does not constitute a ministerial error as defined by section 351.224(f) of the Department's regulations. For a detailed discussion of the ministerial error allegation and the Department's analysis, see September 30, 2002, “Ministerial Errors” memorandum from the Team to Richard W. Moreland, Deputy Assistant Secretary (“Ministerial Errors Memo”), which is on file in the Department's Central Records Unit in Room B-099 of the main Department building.

After releasing the final determination, the Department found an error in the calculation of the “all others” rate. The error resulted from the use of the originally reported sales values for Ispat Walzdraht Hochfeld GmbH (“IWHG”) and Ispat Hamburger Stahlwerke GmbH (“IHSW”) in the calculation, rather than the revised sales values obtained at verification. Using the correct U.S. sales values for IHSW and IWHG, the revised “all others” rate is 10.97 percent ad valorem. For a discussion of this issue and the revised “all others” margin calculation, see Ministerial Errors Memo.

Accordingly, we are amending the final determination for the countervailing duty investigation of carbon and certain alloy steel wire rod from Germany to correct the “all others” rate. The estimated net subsidy rates are as follows:

Producer/Exporter | Net Subsidy Rate
Saarstahl, A.G. | 18.46
Ispat (IHSW, IWHG, ISRG) | 1.12
All Others | 10.97

Suspension of Liquidation

In accordance with section 705(c)(1)(B)(ii) of the Act, we are directing the Customs Service (“Customs”) to continue suspending liquidation on all imports of subject merchandise from Germany that are entered, or withdrawn from warehouse, for consumption on or after the date of publication of this notice in the Federal Register. Customs shall require a cash deposit or the posting of a bond equal to the margin/subsidy rates indicated in the chart above. These suspension of liquidation instructions will remain in effect until further notice.

We will issue a countervailing duty order if the International Trade Commission (“ITC”) issues a final affirmative injury determination. If the ITC determines that material injury, or threat of material injury, does not exist, this proceeding will be terminated and all estimated duties deposited or securities posted as a result of the suspension of liquidation will be refunded or canceled.

ITC Notification

In accordance with section 705(d) of the Act, we will notify the ITC of our amended final determination.

Return or Destruction of Proprietary Information

In the event that the ITC issues a final negative injury determination, this notice will serve as the final reminder to parties subject to an Administrative Protective Order (“APO”) of their responsibility concerning the destruction of proprietary information disclosed under APO in accordance with 19 CFR 351.305(a)(3). Failure to comply is a violation of the APO.

This determination is published pursuant to sections 705(d), 705(e) and 777(i) of the Act.

Dated: October 1, 2002.
Faryar Shirzad,
Assistant Secretary for Import Administration.

[FR Doc. 02-25450 Filed 10-4-02; 8:45 am]

BILLING CODE 3510-DS-S